ENVIRONMENTAL PROTECTION AGENCY

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

Omb Approvals

EPA ICR No. 1591.23; Regulation of Fuel and Fuel Additives: Gasoline Benzene Program (Final Rule); was approved 06/06/2007; OMB Number 2060-0277; expires 10/31/2007.

EPA ICR No. 1716.06; NESHAP for Wood Furniture Manufacturing Operations (Renewal); in 40 CFR part 63, subpart JJ; was approved 06/07/2007; OMB Number 2060-0324; expires 06/30/2010.

EPA ICR No. 1790.04; NESHAP—Phosphoric Acid Manufacturing and Phosphate Fertilizers Production (Renewal); in 40 CFR part 63, subparts AA and BB; was approved 06/07/2007; OMB Number 2060-0361; expires 06/30/2010.

EPA ICR No. 1799.04; NESHAP for Mineral Wool Production (Renewal); in 40 CFR part 63, subpart DDD; was approved 06/07/2007; OMB Number 2060-0362; expires 06/30/2010.

EPA ICR No. 1678.06; NESHAP for Magnetic Tape Manufacturing Operations (Renewal); in 40 CFR part 63, subpart EE; was approved 06/07/2007; OMB Number 2060-0326; expires 06/30/2010.

EPA ICR No. 2213.02; Information Collection Requirements for the Control of Evaporative Emissions from New and In-Use Portable Gasoline Containers (Final Rule); was approved 06/06/07; OMB Number 2060-0597; expires 06/30/2010.

EPA ICR No. 1765.04; Reporting and Recordkeeping Requirements for National Volatile Organic Compound Emission Standards for Automobile Refinish Coatings (Renewal); in 40 CFR part 59, subpart B; was approved 06/05/2007; OMB Number 2060-0353; expires 06/30/2010.

EPA ICR No. 1927.04; Reporting and Recordkeeping Requirements for the Emission Guidelines for Existing Commercial and Industrial Solid Waste Incineration (CISWI) Units (Renewal); in 40 CFR part 60, subpart DDDD; OMB Control Number 2060-0451; expires 06/30/2010.

EPA ICR No. 0877.09; RadNet (Renewal); was approved 05/22/2007; OMB Number 2060-0015; expires 05/31/2010.

EPA ICR No. 1926.04; NSPS for Commercial and Industrial Solid Waste Incineration Units (Renewal); in 40 CFR part 60, subpart CCCC; was approved 05/22/2007; OMB Number 2060-0450; expires 05/31/2010.

EPA ICR No. 1160.08; NSPS—Wood Fiberglass Insulation Manufacturing Plants, NESHAP-MACT-Wool Fiberglass Manufacturing Plants (Renewal); in 40 CFR part 60, subpart PPP and 40 CFR part 63, subpart NNN; was approved 05/23/2007; OMB Number 2060-0114; expires 05/31/2010.

EPA ICR No. 2243.01; Procedures for Implementing NEPA; in 40 CFR 6.506, 6.604, 6,703, and 6.803; was approved 05/21/2007; OMB Number 2020-0033; expires 09/30/2007.

EPA ICR No. 1797.04; NSPS for Standards of Performance for Storage Vessels for Petroleum Liquids for which Construction, Reconstruction, or Modification Commenced after June 11, 1973, and prior to May 19, 1978 (Renewal); in 40 CFR part 60, subpart K; was approved 05/21/2007; OMB Number 2060-0442; expires 05/31/2010.

EPA ICR No. 1056.09; New Source Performance Standards for Nitric Acid Plants (Renewal); in 40 CFR part 60, subpart G; was approved 05/21/2007; OMB Number 2060-0019; expires 05/31/2010.

EPA ICR No. 2096.03; NESHAP for Iron and Steel Foundries (Renewal); in 40 CFR part 63, subpart EEEEE; was approved 05/18/2007; OMB Number 2060-0543; expires 05/31/2010.

EPA ICR No. 2248.02; Applicant Background Questionnaire: Race, National Origin, Gender and Disability Demographics; in 29 CFR 1614.601; was approved 05/14/2007; OMB Number 2030-0045; expires 11/30/2007.

EPA ICR No. 1072.08; NSPS for Lead-Acid Battery Manufacturing; in 40 CFR part 60, subpart KK (Renewal); was approved 06/08/2007; OMB Number 2060-0081; expires 06/30/2010.

Comment Filed

EPA ICR No. 1189.19; Revisions to the RCRA Definition of Solid Waste (Proposed Rule); OMB Number 2050-0053; OMB filed comment on 05/25/2007.

EPA ICR No. 1693.04; Plant-Incorporated Protectants; CBI Substantiation and Adverse Effects Reporting (Proposed Rule Related Addendum); in 40 CFR part 174; OMB filed comment on 05/21/2007.

Dated: June 18, 2007.
Sara Hisel-McCoy,
Acting Director, Collection Strategies Division.

[FR Doc. E7-12233 Filed 6-22-07; 8:45 am]

BILLING CODE 6560-50-P